DEPARTMENT OF COMMERCE

International Trade Administration

[A-580-870]

Certain Oil Country Tubular Goods From the Republic of Korea: Final Results of Antidumping Duty Administrative Review and Final Determination of No Shipments; 2019-2020

AGENCY: Enforcement and Compliance, International Trade Administration, Department of Commerce.

SUMMARY: The Department of Commerce (Commerce) determines that certain producers/exporters subject to this review made sales of oil country tubular goods (OCTG) from the Republic of Korea (Korea) at less than normal value during the period of review (POR), September 1, 2019, through August 31, 2020, and that HiSteel Co., Ltd. (HiSteel) had no shipments of subject merchandise to the United States during the POR.

DATES: Applicable April 8, 2022.

FOR FURTHER INFORMATION CONTACT: Mark Flessner or Frank Schmitt, AD/CVD Operations, Office VI, Enforcement and Compliance, International Trade Administration, U.S. Department of Commerce, 1401 Constitution Avenue NW, Washington, DC 20230; telephone: (202) 482-6312, or (202) 482-4880, respectively.

SUPPLEMENTARY INFORMATION:

Background

On October 5, 2021, Commerce published the Preliminary Results of this administrative review.¹ We invited interested parties to comment on the Preliminary Results. Between November 9, 2021, and November 22, 2021, Commerce received timely filed case briefs and rebuttal briefs from various interested parties.² On December 29, 2021, we extended the deadline for the final results until April 1, 2022.³ The final results cover 33 companies.⁴ Commerce conducted this review in accordance with section 751(a) of the Tariff Act of 1930, as amended (the Act).

¹ See Certain Oil Country Tubular Goods from the Republic of Korea: Preliminary Results of Antidumping Duty Administrative Review and Preliminary Determination of No Shipments; 2019-2020, 86 FR 54928 (October 5, 2021) (Preliminary Results), and accompanying Preliminary Decision Memorandum.

² See SeAH Steel Corporation (SeAH)'s Letter, “Administrative Review of the Antidumping Order on Oil Country Tubular Goods from Korea—Case Brief of SeAH Steel Corporation,” dated November 9, 2021; see also Husteel Co., Ltd. (Husteel)'s Letter, “Oil Country Tubular Goods from Republic of Korea, Case No. A-580-870: Letter in Lieu of Case Brief,:” dated November 9, 2021; AJU Besteel Co., Ltd., (AJU Besteel)'s Letter, “Certain Oil Country Tubular Goods from the Republic of Korea—Letter in Support of Case Briefs,” dated November 9, 2021; ILJIN Steel Corporation (ILJIN)'s Letter, “Certain Oil Country Tubular Goods from the Republic of Korea—Letter in Support of Case Brief,” dated November 9, 2021; Hyundai Steel Company (Hyundai Steel)'s Letter, “Certain Oil Country Tubular Goods from the Republic of Korea—Case Brief,” dated November 9, 2021; United States Steel Corporation, Vallourec Star L.P., and Welded Tube USA (collectively, Domestic Interested Parties)' Letter, “Oil Country Tubular Goods from the Republic of Korea: Case Brief of Domestic Interested Parties,” dated November 9, 2021; SeAH's Letter, “Administrative Review of the Antidumping Duty Order on Oil Country Tubular Goods from Korea—Rebuttal Brief of SeAH Steel Corporation,” dated November 22, 2021; Husteel's Letter, “Oil Country Tubular Goods from the Republic of Korea, Case No. A-580-870: Husteel's Case Brief,” dated November 22, 2021; see AJU Besteel's Letter, “Certain Oil Country Tubular Goods from the Republic of Korea—Letter in Support of Rebuttal Briefs,” dated November 22, 2021; ILJIN's Letter, “Certain Oil Country Tubular Goods from the Republic of Korea—Letter in Support of Rebuttal Briefs,” dated November 22, 2021; NEXTEEL Co., Ltd. (NEXTEEL)'s Letter, “Certain Oil Country Tubular Goods from the Republic of Korea: NEXTEEL's Letter in Support of Respondents' Rebuttal Briefs,” dated November 22, 2021; Hyundai Steel's Letter, “Certain Oil Country Tubular Goods from the Republic of Korea—Rebuttal Brief,” dated November 22, 2021; and Domestic Interested Parties' Letter, “Oil Country Tubular Goods from the Republic of Korea: Rebuttal Brief of Domestic Interested Parties,” dated November 22, 2021.

³ See Memorandum, “Oil Country Tubular Goods from the Republic of Korea: Extension of Time Limit for Final Results of Antidumping Duty Administrative Review, 2019-2020,” dated December 29, 2021.

⁴ See Initiation of Antidumping and Countervailing Duty Administrative Reviews, 85 FR 68840 (October 30, 2020). The 33 companies consist of two mandatory respondents, 30 companies not individually examined, and one company that had no shipments.

For a complete description of the events that followed the Preliminary Results of this administrative review, see the Issues and Decision Memorandum.⁵ The Issues and Decision Memorandum is a public document and is on file electronically via Enforcement and Compliance's Antidumping and Countervailing Duty Centralized Electronic Service System (ACCESS). ACCESS is available to registered users at https://access.trade.gov. Additionally, a complete version of the Issues and Decision Memorandum can be accessed at https://access.trade.gov/public/FRNoticesListLayout.aspx.

⁵ See Memorandum, “Issues and Decision Memorandum for the Final Results of the 2019-2020 Administrative Review of the Antidumping Duty Order on Certain Oil Country Tubular Goods from the Republic of Korea,” dated concurrently with, and hereby adopted by, this notice (Issues and Decision Memorandum).

Scope of the Order ⁶

⁶ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

The merchandise covered by the Order is certain OCTG. For a complete description of the scope of the Order, see the Issues and Decision Memorandum.

Analysis of Comments Received

All issues raised in the case and rebuttal briefs that were submitted by parties in this review are addressed in the Issues and Decision Memorandum and listed in the appendix to this notice.

Changes Since the Preliminary Results

Based on our analysis of the comments received, we made certain changes to the margin calculations for Hyundai Steel. For a discussion of these changes, see the “Margin Calculations” section of the Issues and Decision Memorandum. We did not make changes to the margin calculations for SeAH.

Determination of No Shipments

In the Preliminary Results, Commerce found that HiSteel did not have shipments of subject merchandise to the United States during the POR. No parties commented on this determination. Accordingly, for the final results of review, we continue to find that Histeel made no shipments of subject merchandise to the United States during the POR. Consistent with Commerce's practice,⁷ we intend to instruct U.S. Customs and Border Protection (CBP) to liquidate any existing entries of subject merchandise produced by HiSteel, but exported by other parties, at the rate for the intermediate reseller, if available, or at the all-others rate of 5.24 percent.⁸

⁷ See, e.g., Certain Corrosion-Resistant Steel Products from Taiwan: Final Results of the Antidumping Duty Administrative Review and Final Determination of No Shipments; 2018-2019, 86 FR 28554 (May 27, 2021).

⁸ See Certain Oil Country Tubular Goods from the Republic of Korea: Notice of Court Decision Not in Harmony with Final Determination, 81 FR 59603 (August 30, 2016).

Final Results of Administrative Review

For these final results, Commerce determines that the following weighted-average dumping margins exist for the period September 1, 2019, through August 31, 2020:

Producer/exporter | Weighted- average dumping margins (percent)
Hyundai Steel Company | 19.54
SeAH Steel Corporation | 3.85
Non-examined companies ⁹ | 11.70

Rate for Non-Examined Companies

⁹ See Appendix II for a full list of these companies.

For the rate for non-selected respondents in an administrative review, generally, Commerce looks to section 735(c)(5) of the Act, which provides instructions for calculating the all-others rate in a market economy investigation, for guidance. Under section 735(c)(5)(A) of the Act, the all-others rate is normally “an amount equal to the weighted-average of the estimated weighted-average dumping margins established for exporters and producers individually investigated, excluding any zero or de minimis margins, and any margins determined entirely {on the basis of facts available}.” For these final results, we calculated dumping margins for the two mandatory respondents, Hyundai Steel and SeAH, of 19.54 and 3.85 percent, respectively. Therefore, we have assigned to the non-selected companies a rate of 11.70 percent, which is the simple average of Hyundai Steel's and SeAH's margins.¹⁰

¹⁰ Commerce was unable to compare a simple average to a weighted-average relative to publicly available data because public data for volume of U.S. sales were not available for both respondents.

Disclosure

Commerce intends to disclose the calculations performed for these final results of review for Hyundai Steel within five days of the date of publication of this notice in the Federal Register, in accordance with 19 CFR 351.224(b). Because no changes were made to SeAH's margins since the Preliminary Results, no disclosure of SeAH's calculations is necessary for these final results.

Assessment

Pursuant to section 751(a)(2)(C) of the Act and 19 CFR 351.212(b), Commerce shall determine, CBP shall assess, antidumping duties on all appropriate entries of subject merchandise in accordance with the final results of this review.

Where the respondent reported reliable entered values, we calculated importer- (or customer-) specific ad valorem rates by aggregating the dumping margins calculated for all U.S. sales to each importer (or customer) and dividing this amount by the total entered value of the sales to each importer (or customer).¹¹ Where Commerce calculated a weighted-average dumping margin by dividing the total amount of dumping for reviewed sales to that party by the total sales quantity associated with those transactions, Commerce will direct CBP to assess importer- (or customer-) specific assessment rates based on the resulting per-unit rates.¹² Where an importer- (or customer-) specific ad valorem or per-unit rate is greater than de minimis (i.e., 0.50 percent), Commerce will instruct CBP to collect the appropriate duties at the time of liquidation.¹³ Where an importer- (or customer-) specific ad valorem or per-unit rate is zero or de minimis, Commerce will instruct CBP to liquidate appropriate entries without regard to antidumping duties.¹⁴

¹¹ See 19 CFR 351.212(b)(1).

¹² Id.

¹³ Id.

¹⁴ See 19 CFR 351.106(c)(2).

For the companies which were not selected for individual review, we will assign an assessment rate based on the methodology described in the “Rates for Non-Examined Companies” section, above.

Consistent with Commerce's assessment practice, for entries of subject merchandise during the POR produced by SeAH, Hyundai Steel, or the non-examined companies for which the producer did not know that its merchandise was destined for the United States, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

Commerce intends to issue assessment instructions to CBP no earlier than 35 days after the date of publication of the final results of this review in the Federal Register.¹⁶ If a timely summons is filed at the U.S. Court of International Trade, the assessment instructions will direct CBP not to liquidate relevant entries until the time for parties to file a request for a statutory injunction has expired (i.e., within 90 days of publication).

¹⁶ See Notice of Discontinuation Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review, a prior review, or the original less-than-fair-value (LTFV) investigation, but the producer is, the cash deposit rate will be the rate established for the most recently completed segment of this proceeding for the producer of the subject merchandise; and (4) the cash deposit rate for all other producers or exporters will continue to be 5.24 percent,¹⁷ the all-others rate established in the LTFV investigation. These cash deposit requirements, when imposed, shall remain in effect until further notice.

¹⁷ See Certain Oil Country Tubular Goods from the Republic of Korea: Notice of Court Decision Not in Harmony with Final Determination, 81 FR 59603 (August 30, 2016).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This administrative review and notice are issued and published in accordance with sections 751(a)(1) and 777(i)(1) of the Act, and 19 CFR 351.213(h) and 19 CFR 351.221(b)(5).

Dated: April 1, 2022.
Ryan Majerus,
Deputy Assistant Secretary for Policy and Negotiations.

Appendix I

List of Topics Discussed in the Issues and Decision Memorandum

I. Summary

II. Background

III. Scope of the Order

IV. Final Determination of No Shipments

V. Changes Since the Preliminary Results

VI. Rate for Non-Examined Companies

VII. Discussion of the Issues

General Issues

Comment 1: Particular Market Situation

Comment 2: Differential Pricing

Hyundai Steel-Specific Issues

Comment 3: CV Profit and Selling Expenses

Comment 4: CV Profit Cap

Comment 5: Source for CEP Profit

Comment 6: Inland Freight From Port to Warehouse

Comment 7: Adjustment to HSU G&A Expense Ratio and Treatment of Scrap

Comment 8: HSU Financials and AFA

Comment 9: Reporting of Non-API Grade OCTG and AFA

Comment 10: Further Manufacturing Yield

Comment 11: Warehousing Expense and Facts Available

Comment 12: Expenses Incurred in the United States

Comment 13: Allocation of Indirect Selling Expense Ratio

Comment 14: Use of Prior POR Cost Data

Comment 15: Affiliated Ocean Freight Costs

SeAH-Specific Issues

Comment 16: Constructed Export Price (CEP) Offset

Comment 17: Freight Revenue Cap

Comment 18: Calculation of General and Administrative (G&A) Expenses Incurred by SeAH's U.S. Affiliate

VII. Recommendation

Appendix II

List of Companies Not Individually Examined

1. AJU Besteel Co., Ltd.

2. DB Inc.

3. Dong-A Steel Co., Ltd.

4. FM Oilfield Services Solutions LLC

5. Hengyang Steel Tube Group International Trading Inc.

6. Husteel Co., Ltd.

7. Hyundai Corporation

8. Hyundai Heavy Industries Co., Ltd.

9. ILJIN Steel Corporation

10. K Steel Corporation

11. KASCO

12. Kenwoo Metals Co., Ltd.

13. Kukje Steel Co., Ltd.

14. Kumkang Kind Co., Ltd.

15. Kumsoo Connecting Co., Ltd.

16. Master Steel Corporation

17. NEXTEEL Co., Ltd.

18. POSCO International Corporation

19. Pusan Coupling Corporation

20. Pusan Fitting Corporation

21. Sang Shin Industrial Co., Ltd. (a.k.a. SIC Tube Co., Ltd.)

22. SeAH Changwon Integrated Special Steel Co., Ltd.

23. Shin Steel Co., Ltd.

24. Sichuan Y&J Industries Co. Ltd.

25. Steel-A Co., Ltd.

26. Sungwon Steel Co., Ltd.

27. TGS Pipe Co., Ltd.

28. TJ Glovsteel Co., Ltd.

29. TPC Co., Ltd.

30. T-Tube Co., Ltd.

[FR Doc. 2022-07503 Filed 4-7-22; 8:45 am]

BILLING CODE 3510-DS-P